DEPARTMENT OF THE TREASURY

Office of the General Counsel; Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, James Carroll, Deputy General Counsel

2. Mark E. Matthews, Deputy Commissioner for Services and Enforcement

3. Eric Solomon, Deputy Assistant Secretary for Regulatory Affairs

This publication is required by 5 U.S.C. 4314(c)(4).

Dated: August 25, 2004.
Donald L. Korb,
Chief Counsel, Internal Revenue Service.

[FR Doc. 04-19935 Filed 8-31-04; 8:45 am]

BILLING CODE 4830-01-P